Title 3—

The President

Executive Order 13285 of January 29, 2003

President's Council on Service and Civic Participation

By the authority vested in me as President by the Constitution and the laws of the United States of America, and in order to encourage the recognition of volunteer service and civic participation by all Americans, and especially America's youth, it is hereby ordered as follows:

Section 1. The President's Council on Service and Civic Participation. (a) There is hereby established within the Corporation for National and Community Services (CNCS) the President's Council on Service and Civic Participation (Council).

(b) The Council shall be composed of up to 25 members, including representatives of America's youth, appointed by the President. Each member shall serve for a term of 2 years and may continue to serve after the expiration of their term until a successor is appointed. The President shall designate one member to serve as Chair and one member to serve as Vice Chair. Subject to the direction of the Chief Executive Officer of the CNCS, the Chair, and in the Chair's absence the Vice Chair, shall convene and preside at the meetings of the Council, determine its agenda, and direct its work.

Sec. 2. Mission and Functions of the Council.

(a) The mission of the Council shall be to:

(i) encourage the recognition of outstanding volunteer service and civic participation by individuals, schools, and organizations and thereby encourage more such activity, especially on the part of America's youth; and

(ii) facilitate awareness of the ways in which Americans throughout our history have helped to meet the vital needs of their communities and Nation through volunteer service and civic participation.

(b) In carrying out its mission, the Council shall:

(i) design and recommend programs to recognize individuals, schools, and organizations that excel in their efforts to support volunteer service and civic participation, especially with respect to students in primary schools, secondary schools, and institutions of higher learning;

(ii) exchange information and ideas with interested individuals and organizations on ways to expand and improve programs developed pursuant to subsection 2(b)(i) of this order;

(iii) advise the Chief Executive Officer of the CNCS on broad dissemination, especially among schools and youth organizations, of information regarding recommended practices for the promotion of volunteer service and civic participation, and other relevant educational and promotional materials;

(iv) monitor and advise the Chief Executive Officer of the CNCS on the need for the enhancement of materials disseminated pursuant to subsection 2(b)(iii) of this order; and

(v) make recommendations from time to time to the President, through the Director of the USA Freedom Corps, on ways to promote and recognize outstanding volunteer service and civic participation by individuals, schools, and organizations and to promote awareness of the ways in which Americans throughout our history have helped to meet the vital needs of their communities and Nation through volunteer service and civic participation.

Sec. 3. Administration. (a) Each Federal agency, to the extent permitted by law and subject to the availability of appropriations, shall furnish such information and assistance to the Council as the Council may, with the approval of the Director of the USA Freedom Corps, request.

(b) The members of the Council shall serve without compensation for their work on the Council. Members of the Council who are not officers or employees of the United States may receive travel expenses, including per diem in lieu of subsistence, as authorized by law for persons serving intermittently in the Government (5 U.S.C. 5701-5707).

(c) To the extent permitted by law, the Chief Executive Officer of the CNCS shall furnish the Council with necessary staff, supplies, facilities, and other administrative services and shall pay the expenses of the Council.

(d) The Chief Executive Officer of the CNCS shall appoint an Executive Director to head the staff of the Council.

(e) The Council, with the approval of the Chief Executive Officer of the CNCS, may establish subcommittees of the Council, consisting exclusively of members of the Council, as appropriate to aid the Council in carrying out its mission under this order.

Sec. 4. General Provisions. (a) Insofar as the Federal Advisory Committee Act, as amended (5 U.S.C. App.) (Act), may apply to the administration of any portion of this order, any functions of the President under the Act, except that of reporting to the Congress, shall be performed by the Chief Executive Officer of CNCS in accordance with the guidelines and procedures issued by the Administrator of General Services.

(b) Unless extended by the President, this order shall expire 2 years from the date of this order.

B

THE WHITE HOUSE,

January 29, 2003.

[FR Doc. 03-2606

Filed 01-31-03; 8:45 am]

Billing code 3195-01-P